OFFICE OF THE UNITED STATES TRADE REPRESENTATIVE

Notice of Meeting of the Committee of Chairs of the Industry Trade Advisory Committees (ITACs)

AGENCY: Office of the United States Trade Representative.

ACTION: Notice of a Partially Opened Meeting.

SUMMARY: The Committee of Chairs of the Industry Trade Advisory Committees (ITACs) will hold a meeting on Friday, September 17, 2010, from 10 a.m. to 12 noon. The meeting will be closed to the public from 10 a.m. to 10:45 a.m. and opened to the public from 11 a.m. to 12 noon.

DATES: The meeting is scheduled for September 17, 2010, unless otherwise notified.

ADDRESSES: The meeting will be held at the U.S. Department of Commerce, Room 4830, located at 14th Street and Constitution Avenue, NW., Washington, DC 20230.

FOR FURTHER INFORMATION CONTACT: Ingrid Mitchem, DFO (202) 482-3268, Department of Commerce, 14th Street and Constitution Avenue, NW., Washington, DC 20230.

SUPPLEMENTARY INFORMATION: The Agenda topics to be discussed are:

—National Export Initiative (NEI).

—Report of the Chairs on ITACs' Trade Priority Issues and Concerns.

Isaac Faz,
Acting Assistant U.S. Trade Representative for Intergovernmental Affairs and Public Engagement.

[FR Doc. 2010-22137 Filed 9-3-10; 8:45 am]

BILLING CODE 3190-W0-P